INTERNATIONAL TRADE COMMISSION

[Investigation No. 731-TA-1069 (Final)]

Outboard Engines From Japan

Determination

On the basis of the record ¹ developed in the subject investigation, the United States International Trade Commission (Commission) determines,² pursuant to section 735(b) of the Tariff Act of 1930 (19 U.S.C. 1673d(b)) (the Act), that an industry in the United States is not materially injured or threatened with material injury, and the establishment of an industry in the United States is not materially retarded, by reason of imports from Japan of outboard engines and powerheads, provided for in subheading 8407.21.00 of the Harmonized Tariff Schedule of the United States, that have been found by the Department of Commerce (Commerce) to be sold in the United States at less than fair value (LTFV).

¹ The record is defined in sec. 207.2(f) of the Commission's Rules of Practice and Procedure (19 CFR 207.2(f)).

² Chairman Stephen Koplan and Commissioner Charlotte R. Lane dissenting.

Background

The Commission instituted this investigation effective January 8, 2004, following receipt of a petition filed with the Commission and Commerce by Mercury Marine, a division of Brunswick Corp., Fond du Lac, WI. The final phase of the investigation was scheduled by the Commission following notification of a preliminary determination by Commerce that imports of outboard engines from Japan were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of August 23, 2004 (69 FR 51859).³ The hearing was held in Washington, DC, on December 14, 2004, and all persons who requested the opportunity were permitted to appear in person or by counsel.

³ The Commission revised its schedule and the notice was published in the Federal Register of January 10, 2005 (70 FR 1739).

The Commission transmitted its determination in this investigation to the Secretary of Commerce on February 17, 2004. The views of the Commission are contained in USITC Publication 3752 (February 2005), entitled Outboard Engines from Japan: Investigation No. 731-TA-1069 (Final).

Issued: February 17, 2005.
By order of the Commission.
Marilyn R. Abbott,
Secretary to the Commission.

[FR Doc. 05-3415 Filed 2-22-05; 8:45 am]

BILLING CODE 7020-02-P